DEPARTMENT OF DEFENSE

Office of the Secretary

[Transmittal No. 25-1K]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-1K.

Dated: February 5, 2026.
Stephanie J. Bost,
Alternate OSD Federal Register Liaison Officer, Department of Defense.

BILLING CODE 6001-FR-P

BILLING CODE 6001-FR-C

Transmittal No. 25-1K

REPORT OF ENHANCEMENT OR UPGRADE OF SENSITIVITY OF TECHNOLOGY OR CAPABILITY (SEC. 36(B)(5)(C) AECA)

(i) Purchaser: Government of Belgium

(ii) Sec. 36(b)(1), AECA Transmittal No.: 24-62

Date: July 25, 2024

Implementing Agency: Air Force

(iii) Description: On July 25, 2024, Congress was notified by congressional certification transmittal number 24-62 of the possible sale, under Section 36(b)(1) of the Arms Export Control Act, of the Government of Belgium's request to buy one hundred ninety-six (196) Guided Bomb Unit (GBU)-53/B Small Diameter Bombs Increment II (SDB-II) All-Up-Rounds (AURs). Also included were SDB-II Weapons Load Crew Trainers (WLCT); training aids and devices; spare and repair parts, consumables, accessories, and repair and return support; unclassified software delivery and support; unclassified publications and technical documentation; major modifications and maintenance support; training and training equipment; munitions support and support equipment; transportation support; studies and surveys; United States (U.S.) Government and contractor engineering, technical, and logistics support services; and other related elements of logistics and program support. The estimated total cost was $115 million. Major Defense Equipment (MDE) constituted $78 million of this total.

This transmittal notifies the inclusion of the following additional MDE items: two hundred eighty-eight (288) GBU-53/B Small Diameter Bombs Increment II (SDB-II). The following non-MDE items will also be included: major and minor modifications; and other related elements of logistics and program support. The estimated total value of the new items is $124 million. The estimated non-MDE value will increase by $19 million to a revised $56 million. The estimated total case value will increase by $124 million to a revised $239 million. MDE constitutes $183 million of this total.

(iv) Significance: This notification is being provided because the additional MDE items were not enumerated in the original notification. The proposed sale is an essential component of F-35 advanced capabilities and will enhance the effectiveness of Belgian tactical air operations.

(v) Justification: This proposed sale will support the foreign policy and national security objectives of the U.S. by improving the security of a NATO ally which is an important force for political stability and economic progress in Europe.

(vi) Sensitivity of Technology: The Sensitivity of Technology Statement contained in the original notification applies to items reported here.

The highest level of classification of defense articles, components, and services included in this potential sale is SECRET.

(vii) Date Report Delivered to Congress: December 8, 2025

[FR Doc. 2026-02531 Filed 2-6-26; 8:45 am]

BILLING CODE 6001-FR-P